DEPARTMENT OF DEFENSE

Office of the Secretary

[Transmittal No. 22-32]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-32 with attached Policy Justification and Sensitivity of Technology.

Dated: June 10, 2024.
Aaron T. Siegel,
Alternate OSD Federal Register Liaison Officer, Department of Defense.

BILLING CODE 6001-FR-P

BILLING CODE 6001-FR-C

Transmittal No. 22-32

Notice of Proposed Issuance of Letter of Offer Pursuant to Section 36(b)(1) of the Arms Export Control Act, as amended

(i) Prospective Purchaser: Government of the United Arab Emirates

(ii) Total Estimated Value:

Major Defense Equipment * | $1.820 billion
Other | $ .425 billion
Total * | $2.245 billion

Funding Source: National Funds

(iii) Description and Quantity or Quantities of Articles or Services under Consideration for Purchase:

Major Defense Equipment (MDE):

Ninety-six (96) Terminal High Altitude Area Defense (THAAD) Missile Rounds

Two (2) THAAD Launch Control Stations (LCS)

Two (2) THAAD Tactical Operations Station (TOS)

Non-MDE:

Also included are repair and return, system integration and checkout, and spare and repair parts; support and testing equipment; publications and technical documentation; construction activities; encryption devices; secure communication equipment; other required COMSEC equipment; and other related elements of logistical and program support.

(iv) Military Department: Missile Defense Agency (AE-I-UBC)

(v) Prior Related Cases, if any: AE-I-UBB, AE-B-UAE, AE-B-UAF, AE-B-UDR, AE-B-OAE

(vi) Sales Commission, Fee, etc., Paid, Offered, or Agreed to be Paid: None

(vii) Sensitivity of Technology Contained in the Defense Article or Defense Services Proposed to be Sold: See Attached Annex

(viii) Date Report Delivered to Congress: August 2, 2022

* As defined in Section 47(6) of the Arms Export Control Act.

POLICY JUSTIFICATION

United Arab Emirates—Terminal High Altitude Area Defense (THAAD) System Missiles and THAAD Fire Control and Communication Stations

The Government of the United Arab Emirates (UAE) has requested to buy ninety-six (96) Terminal High Altitude Area Defense (THAAD) missile rounds; two (2) THAAD Launch Control Stations (LCS); and two (2) THAAD Tactical Operations Stations (TOS). Also included are repair and return, system integration and checkout, and spare and repair parts; support and testing equipment; publications and technical documentation; construction activities; encryption devices; secure communication equipment; other required COMSEC equipment; and other related elements of logistical and program support. The total estimated program cost is $2.245 billion.

This proposed sale will support the foreign policy and national security of the United States by helping to improve the security of an important regional partner. The UAE is a vital U.S. partner for political stability and economic progress in the Middle East.

The proposed sale will improve the UAE's ability to meet current and future ballistic missile threats in the region, and reduce dependence on U.S. forces. The UAE will have no difficulty absorbing this equipment into its armed forces, as it currently employs the THAAD system.

The proposed sale of this equipment and support will not alter the basic military balance in the region.

The principal contractor will be Lockheed Martin Space Systems Corporation, Sunnyvale, CA. It is anticipated the purchaser will request offsets. Any offset agreement will be defined in negotiations between the purchaser and the contractor.

Implementation of this proposed sale will not require the assignment of any additional U.S. Government or contractor representatives to the UAE.

There will be no adverse impact on U.S. defense readiness as a result of this proposed sale.

Transmittal No. 22-32

Notice of Proposed Issuance of Letter of Offer Pursuant to Section 36(b)(1) of the Arms Export Control Act

Annex

Item No. vii

(vii) Sensitivity of Technology:

1. The Terminal High Altitude Area Defense (THAAD) system is the first weapons system with both endo- and exo-atmospheric capability specifically developed to defend against ballistic missiles. The higher altitude and theater-wide protection offered by THAAD provides more protection of larger areas than lower-tier systems alone. THAAD is designed to defend against short, medium and intermediate range ballistic missiles. The THAAD system consists of four major components: Fire Control/Communications System (comprised of the Tactical Operations Station, Launch Control Station, and System Support Group), Radar, Launchers and Interceptors.

2. The highest level of classification of defense articles, components, and services included in this potential sale is SECRET.

3. If a technologically advanced adversary were to obtain knowledge of the hardware and software elements, the information could be used to develop countermeasures or equivalent systems, which might reduce system effectiveness or be used in the development of a system with similar or advanced capabilities.

4. A determination has been made that the UAE can provide substantially the same degree of protection for the sensitive technology being released as the U.S. Government. This sale is necessary in furtherance of the U.S. foreign policy and national security objectives outlined in the Policy Justification.

5. All defense articles and services listed in this transmittal have been authorized for release and export to the Government of the United Arab Emirates.

[FR Doc. 2024-12944 Filed 6-12-24; 8:45 am]

BILLING CODE 6001-FR-P